DEPARTMENT OF LABOR

Employment and Training Administration

[TA-W-55,454 and TA-W-55,454A]

Pennsylvania House, White Deer Facility, White Deer, PA; and Pennsylvania House, Milton Warehouse, Milton, PA; Notice of Termination of Investigation

Pursuant to Section 221 of the Trade Act of 1974, as amended, an investigation was initiated on August 16, 2004 in response to a petition filed by a representative of the United Steel Workers of America Local 1928-193U on behalf of workers at Pennsylvania House, White Deer Facility, White Deer, Pennsylvania (TA-W-55,454) and Pennsylvania House, Milton Warehouse, Milton, Pennsylvania (TA-W-55,454A).

The petitioner has requested that the petition be withdrawn. Consequently, the investigation has been terminated.

Signed at Washington, DC, this 21st day of September, 2004.
Richard Church,
Certifying Officer, Division of Trade Adjustment Assistance.

[FR Doc. E4-2544 Filed 10-7-04; 8:45 am]

BILLING CODE 4510-30-P